ENVIRONMENTAL PROTECTION AGENCY

[EPA-HQ-OPP-2017-0007; FRL-9973-26]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 5, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; or Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

1. EPA: 100-RAGL. Docket ID Number: EPA-HQ-OPP-2017-0653. Applicant: Syngenta Crop Protection, LLC, P.O. Box 18300, Greensboro, NC 27419. Product name: Vayantis Seed Treatment. Active Ingredient: Fungicide-Picarbutrazox at 36%. Proposed Uses: Corn and soybean. Contact: RD.

2. EPA: 8033-RGA. Docket ID Number: EPA-HQ-OPP-2017-0653. Applicant: Nippon Soda Co., Ltd c/o Nisso America Inc., 88 Pine Street, 14th Floor, New York, NY 10005. Product name: Picarbutrazox 10 SC. Active Ingredient: Fungicide-Picarbutrazox at 9.5%. Proposed Uses: Cucurbit vegetables (Crop Group 9) and leafy greens (Crop Sub-group 4-16A). Contact: RD.

3. EPA: 8033-RGI. Docket ID Number: EPA-HQ-OPP-2017-0653. Applicant: Nippon Soda Co., Ltd c/o Nisso America Inc., 88 Pine Street, 14th Floor, New York, NY 10005. Product name: Picarbutrazox 20 WG. Active Ingredient: Fungicide-Picarbutrazox at 20%. Proposed Uses: Turf. Contact: RD.

4. EPA: 8033-RGT. Docket ID Number: EPA-HQ-OPP-2017-0653. Applicant: Nippon Soda Co., Ltd c/o Nisso America Inc., 88 Pine Street, 14th Floor, New York, NY 10005. Product name: Picarbutrazox Technical. Active Ingredient: Fungicide-Picarbutrazox at 97.5%. Proposed Uses: Cucurbit vegetables (Crop Group 9), leafy greens (Crop Sub-group 4-16A), turf, corn, and soybean. Contact: RD.

File Symbols: 279-GAGR and 279-GAGN. Docket ID number: EPA-HQ-OPP-2017-0417. Applicant: FMC Corporation, 1735 Market Street, Philadelphia, PA 19103. Product names: Valifenalate Technical and F9177-2 WG. Active ingredient: Fungicide and Valifenalate at 98.4% (Valifenalate Technical) and 10% (F9177-2 WG). Proposed Uses: Classification/Use Bulb vegetable crop group 3-07, cucurbit vegetable crop group 9, fruiting vegetable crop group 8-10, celery, tomato-wet peel, and potatoes. Contact: RD.

File Symbol: 67986-I. Docket ID number: EPA-HQ-OPP-2017-0707. Applicant: OmniLytics, Inc., 9100 South 500 West, Sandy, UT 84070. Product name: AgriPhage-Fire Blight. Active ingredient: Bactericide—Bacteriophage active against Erwinia amylovora at 0.0001%. Proposed use: To be used on apples and pears for the control of fire blight caused by the bacterium Erwinia amylovora. Contact: BPPD.

File Symbol: 89017-A. Docket ID number: EPA-HQ-OPP-2017-0725. Applicant: Adjuvants Plus, Inc., 1755 Division Rd. North, Kingsville, Ontario N9Y 2Y8, Canada (c/o Technology Sciences Group Inc., 712 Fifth St., Suite A, Davis, CA 95616). Product name: Clonostachys rosea strain 88-710 TGAI. Active ingredient: Fungicide—Clonostachys rosea strain 88-710 at 100%. Proposed use: For manufacturing of pesticide products containing Clonostachys rosea strain 88-170. Contact: BPPD.

File Symbol: 89017-G. Docket ID number: EPA-HQ-OPP-2017-0724. Applicant: Adjuvants Plus, Inc., 1755 Division Rd. North, Kingsville, Ontario N9Y 2Y8, Canada (c/o Technology Sciences Group Inc., 712 Fifth St., Suite A, Davis, CA 95616). Product name: API EP#4. Active ingredient: Fungicide—Clonostachys rosea strain ACM941 at 95.00%. Proposed use: Seed treatment. Contact: BPPD.

File Symbol: 89017-I. Docket ID number: EPA-HQ-OPP-2017-0725. Applicant: Adjuvants Plus, Inc., 1755 Division Rd. North, Kingsville, Ontario N9Y 2Y8, Canada (c/o Technology Sciences Group Inc., 712 Fifth St., Suite A, Davis, CA 95616). Product name: API EP#2. Active ingredient: Fungicide—Clonostachys rosea strain 88-710 at 95.00%. Proposed use: Field, greenhouse, turf/lawn, forestry, and residential. Contact: BPPD.

File Symbol: 89017-O. Docket ID number: EPA-HQ-OPP-2017-0724. Applicant: Adjuvants Plus, Inc., 1755 Division Rd. North, Kingsville, Ontario N9Y 2Y8, Canada (c/o Technology Sciences Group Inc., 712 Fifth St., Suite A, Davis, CA 95616). Product name: API EP#5. Active ingredient: Fungicide—Clonostachys rosea strain ACM941 at 95.00%. Proposed use: Field, greenhouse, turf/lawn, forestry, and residential. Contact: BPPD.

File Symbol: 89017-R. Docket ID number: EPA-HQ-OPP-2017-0724. Applicant: Adjuvants Plus, Inc., 1755 Division Rd. North, Kingsville, Ontario N9Y 2Y8, Canada (c/o Technology Sciences Group Inc., 712 Fifth St., Suite A, Davis, CA 95616). Product name: Clonostachys rosea strain ACM941 TGAI. Active ingredient: Fungicide—Clonostachys rosea strain ACM941 at 100%. Proposed use: For manufacturing of pesticide products containing Clonostachys rosea strain ACM941. Contact: BPPD.

File Symbol: 89017-RN. Docket ID numbers: EPA-HQ-OPP-2017-0724 and EPA-HQ-OPP-2017-0725. Applicant: Adjuvants Plus, Inc., 1755 Division Rd. North, Kingsville, Ontario N9Y 2Y8, Canada (c/o Technology Sciences Group Inc., 712 Fifth St., Suite A, Davis, CA 95616). Product name: API EP#7. Active ingredients: Fungicide—Clonostachys rosea strain 88-710 and Clonostachys rosea strain ACM941 at 47.50% and 47.50%, respectively. Proposed use: Field, greenhouse, turf/lawn, forestry, and residential. Contact: BPPD.

File Symbol: 89017-T. Docket ID number: EPA-HQ-OPP-2017-0725. Applicant: Adjuvants Plus, Inc., 1755 Division Rd. North, Kingsville, Ontario N9Y 2Y8, Canada (c/o Technology Sciences Group Inc., 712 Fifth St., Suite A, Davis, CA 95616). Product name: API EP#1. Active ingredient: Fungicide—Clonostachys rosea strain 88-710 at 95.00%. Proposed use: Seed treatment. Contact: BPPD.

File Symbol: 89017-U. Docket ID numbers: EPA-HQ-OPP-2017-0724 and EPA-HQ-OPP-2017-0725. Applicant: Adjuvants Plus, Inc., 1755 Division Rd. North, Kingsville, Ontario N9Y 2Y8, Canada (c/o Technology Sciences Group Inc., 712 Fifth St., Suite A, Davis, CA 95616). Product name: API EP#6. Active ingredients: Fungicide—Clonostachys rosea strain 88-710 and Clonostachys rosea strain ACM941 at 47.50% and 47.50%, respectively. Proposed use: Seed treatment. Contact: BPPD.

File Symbol: 89635-U. Docket ID number: EPA-HQ-OPP-2017-0706. Applicant: Koppert Biological Systems, Inc., 1502 Old US 23, Howell, MI 48843. Product name: KM1110 WDG. Active ingredient: Fungicide—Metschnikowia fructicola strain NRRL Y-27328 at 58.5%. Proposed use: Fungicide to prevent post-harvest decay in small fruit vine climbing plants, low growing berries, and stone fruits. Contact: BPPD.

File Symbol: 91279-E. Docket ID number: EPA-HQ-OPP-2017-0749. Applicant: toXcel, LLC, 7140 Heritage Village Plaza, Gainesville, VA 20155 (on behalf of Green Ravenna, Via Matteotti, 16-48121, Ravenna, Italy). Product name: Proradix MUP. Active ingredient: Fungicide—Pseudomonas sp. strain DSMZ 13134 at 5.4%. Proposed use: For formulation of fungicides to reduce soilborne diseases. Contact: BPPD.

File Symbol: 91279-R. Docket ID number: EPA-HQ-OPP-2017-0749. Applicant: toXcel, LLC, 7140 Heritage Village Plaza, Gainesville, VA 20155 (on behalf of Green Ravenna, Via Matteotti, 16-48121, Ravenna, Italy). Product name: Proradix. Active ingredient: Fungicide—Pseudomonas sp. strain DSMZ 13134 at 0.8%. Proposed use: To reduce soilborne diseases on potato, onion, garlic, tomato, eggplant, pepper, squash, melon, watermelon, cucumber and strawberry. Contact: BPPD.

Authority: 7 U.S.C. 136 et seq.

Dated: January 29, 2018.
Hamaad Syed,
Acting Director, Information Technology and Resources Management Division, Office of Pesticide Programs.

[FR Doc. 2018-04524 Filed 3-5-18; 8:45 am]

BILLING CODE 6560-50-P